DEPARTMENT OF ENERGY

Federal Energy Regulatory Commission

Combined Notice of Filings #1

Take notice that the Commission received the following electric corporate filings:

Docket Numbers: EC20-31-000.

Applicants: Refresh Wind, LLC, Refresh Wind 2, LLC, Tehachapi Plains Wind, LLC, Terra-Gen 251 Wind, LLC, Victory Garden Phase IV, LLC.

Description: Application for Authorization Under Section 203 of the Federal Power Act, et al. of Refresh Wind, LLC, et al.

Filed Date: 1/13/20.

Accession Number: 20200113-5214.

Comments Due: 5 p.m. ET 2/3/20.

Take notice that the Commission received the following electric rate filings:

Docket Numbers: ER14-758-000.

Applicants: Exelon Generation Company, LLC.

Description: Report Filing: Reactive Refund Report Filing—Exelon to be effective N/A.

Filed Date: 1/13/20.

Accession Number: 20200113-5173.

Comments Due: 5 p.m. ET 2/3/20.

Docket Numbers: ER17-580-001.

Applicants: Axium Modesto Solar, LLC.

Description: Notice of Change in Facts Axium Modesto Solar, LLC under ER17-580.

Filed Date: 1/13/20.

Accession Number: 20200113-5232.

Comments Due: 5 p.m. ET 2/3/20.

Docket Numbers: ER17-801-007.

Applicants: Constellation Power Source Generation, LLC.

Description: Report Filing: Reactive Refund Report Filing—Constellation to be effective N/A.

Filed Date: 1/14/20.

Accession Number: 20200114-5006.

Comments Due: 5 p.m. ET 2/4/20.

Docket Numbers: ER17-803-004.

Applicants: Handsome Lake Energy, LLC.

Description: Report Filing: Reactive Refund Report Filing—Handsome Lake Energy to be effective N/A.

Filed Date: 1/13/20.

Accession Number: 20200113-5179.

Comments Due: 5 p.m. ET 2/3/20.

Docket Numbers: ER20-399-000.

Applicants: Rhode Island Engine Genco, LLC.

Description: Report Filing: Supplement to Notice of Change in Status Request to Cancel Tariff ID No. 364 to be effective N/A.

Filed Date: 1/14/20.

Accession Number: 20200114-5101.

Comments Due: 5 p.m. ET 2/4/20.

Docket Numbers: ER20-400-000; ER12-672-013.

Applicants: Rhode Island LFG Genco, LLC, Brea Power II, LLC.

Description: Report Filing: Supplement to Notice of Non-Material Change in Status, Change in Category Seller to be effective N/A.

Filed Date: 1/14/20.

Accession Number: 20200114-5098.

Comments Due: 5 p.m. ET 2/4/20.

Docket Numbers: ER20-531-001.

Applicants: Midcontinent Independent System Operator, Inc.

Description: Tariff Amendment: 2020-01-14 SA 3381 Duke-Greensboro Solar Center Substitute GIA (J903) to be effective 11/21/2019.

Filed Date: 1/14/20.

Accession Number: 20200114-5084.

Comments Due: 5 p.m. ET 2/4/20.

Docket Numbers: ER20-763-000.

Applicants: ISO New England Inc.

Description: § 205(d) Rate Filing: Filing to True Up Section III.13.2 of ISO-NE Tariff to be effective 12/18/2019.

Filed Date: 1/9/20.

Accession Number: 20200109-5276.

Comments Due: 5 p.m. ET 1/30/20.

Docket Numbers: ER20-777-000.

Applicants: MidAmerican Energy Company.

Description: § 205(d) Rate Filing: Interconnection Agt—MEC and La Porte City (eff. 11-1-19) to be effective 11/1/2019.

Filed Date: 1/14/20.

Accession Number: 20200114-5008.

Comments Due: 5 p.m. ET 2/4/20.

Docket Numbers: ER20-778-000.

Applicants: Emera Maine.

Description: Tariff Cancellation: Notice of Termination of Expired Service Agreement—Houlton Water Company to be effective 2/28/2014.

Filed Date: 1/14/20.

Accession Number: 20200114-5011.

Comments Due: 5 p.m. ET 2/4/20.

Docket Numbers: ER20-779-000.

Applicants: Rush Springs Wind Energy, LLC.

Description: Baseline eTariff Filing: Rush Springs and Rush Springs Storage SFA to be effective 1/14/2020.

Filed Date: 1/14/20.

Accession Number: 20200114-5015.

Comments Due: 5 p.m. ET 2/4/20.

Docket Numbers: ER20-780-000.

Applicants: Sooner Wind, LLC.

Description: Baseline eTariff Filing: Sooner Wind, LLC Application for Market-Based Rates to be effective 3/14/2020.

Filed Date: 1/14/20.

Accession Number: 20200114-5016.

Comments Due: 5 p.m. ET 2/4/20.

Docket Numbers: ER20-781-000.

Applicants: Source Power & Gas LLC.

Description: Tariff Cancellation: Cancellation of Source Power Gas LLC MBR Tariff to be effective 1/15/2020.

Filed Date: 1/14/20.

Accession Number: 20200114-5017.

Comments Due: 5 p.m. ET 2/4/20.

Docket Numbers: ER20-782-000.

Applicants: Tri-State Generation and Transmission Association, Inc.

Description: § 205(d) Rate Filing: Rate Schedule No. 130 between Tri-State and High West Energy, Inc. to be effective 3/23/2020.

Filed Date: 1/14/20.

Accession Number: 20200114-5026.

Comments Due: 5 p.m. ET 1/24/20.

Docket Numbers: ER20-783-000.

Applicants: Rosewater Wind Farm LLC.

Description: Compliance filing: Compliance Filing and Revised Market-Based Rate Tariff to be effective 12/16/2019.

Filed Date: 1/14/20.

Accession Number: 20200114-5063.

Comments Due: 5 p.m. ET 2/4/20.

Docket Numbers: ER20-784-000.

Applicants: PacifiCorp.

Description: § 205(d) Rate Filing: 3 Phases Renewables (OR D.A.) Rev 3 to be effective 1/1/2020.

Filed Date: 1/14/20.

Accession Number: 20200114-5080.

Comments Due: 5 p.m. ET 2/4/20.

Docket Numbers: ER20-785-000.

Applicants: Mid-Atlantic Interstate Transmission, LLC, PJM Interconnection, L.L.C.

Description: § 205(d) Rate Filing: MAIT submits (3) ECSAs, Service Agreement Nos. 5278, 5510, and 5513 to be effective 3/14/2020.

Filed Date: 1/14/20.

Accession Number: 20200114-5082.

Comments Due: 5 p.m. ET 2/4/20.

Docket Numbers: ER20-786-000.

Applicants: Midcontinent Independent System Operator, Inc.

Description: § 205(d) Rate Filing: 2020-01-14_SA 3408 Ameren Illinois-Glacier Sands Wind Power GIA (J1055) to be effective 12/20/2019.

Filed Date: 1/14/20.

Accession Number: 20200114-5086.

Comments Due: 5 p.m. ET 2/4/20.

Docket Numbers: ER20-787-000.

Applicants: Southern California Edison Company.

Description: § 205(d) Rate Filing: Agreement Replacement Circuit Breakers McCullough Switchyard—LADWP, DesertLink to be effective 1/15/2020.

Filed Date: 1/14/20.

Accession Number: 20200114-5090.

Comments Due: 5 p.m. ET 2/4/20.

Docket Numbers: ER20-788-000.

Applicants: Southern California Edison Company.

Description: § 205(d) Rate Filing: Agreement Replacement of Circuit Breakers Marketplace Sub—LADWP, DesertLink to be effective 1/15/2020.

Filed Date: 1/14/20.

Accession Number: 20200114-5094.

Comments Due: 5 p.m. ET 2/4/20.

Docket Numbers: ER20-789-000.

Applicants: Baltimore Gas and Electric Company, PJM Interconnection, L.L.C.

Description: § 205(d) Rate Filing: BGE submits revisions to OATT, Attachment H-2A re: Materials and Supplies to be effective 1/14/2020.

Filed Date: 1/14/20.

Accession Number: 20200114-5105.

Comments Due: 5 p.m. ET 2/4/20.

Docket Numbers: ER20-790-000.

Applicants: Midcontinent Independent System Operator, Inc.

Description: § 205(d) Rate Filing: 2020-01-14_SA 3409 City of Springfield, IL-ZEP Grand Prairie Wind GIA (J750) to be effective 12/30/2019.

Filed Date: 1/14/20.

Accession Number: 20200114-5106.

Comments Due: 5 p.m. ET 2/4/20.

Docket Numbers: ER20-791-000.

Applicants: Midcontinent Independent System Operator, Inc, Otter Tail Power Company.

Description: § 205(d) Rate Filing: 2020-01-14_SA 3386 OTP-Tatanka Ridge Wind FSA (J493) Hankinson-Wahpeton to be effective 3/15/2020.

Filed Date: 1/14/20.

Accession Number: 20200114-5111.

Comments Due: 5 p.m. ET 2/4/20.

Docket Numbers: ER20-792-000.

Applicants: Oklahoma Wind, LLC.

Description: Baseline eTariff Filing: Oklahoma Wind, LLC Application for Market-Based Rates to be effective 3/15/2020.

Filed Date: 1/14/20.

Accession Number: 20200114-5113.

Comments Due: 5 p.m. ET 2/4/20.

Take notice that the Commission received the following qualifying facility filings:

Docket Numbers: QF20-511-000.

Applicants: Tate & Lyle Ingredients Americas LLC.

Description: Form 556 of Tate & Lyle Ingredients Americas LLC [Lafayette South].

Filed Date: 1/13/20.

Accession Number: 20200113-5224.

Comments Due: Non-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 14, 2020.
Nathaniel J. Davis, Sr.,
Deputy Secretary.

[FR Doc. 2020-00872 Filed 1-17-20; 8:45 am]

BILLING CODE 6717-01-P